DEPARTMENT OF THE INTERIOR

Fish and Wildlife Service

[FWS-R4-R-2012-N067; FXRS12650400000S3-123-FF04R02000]

St. Johns National Wildlife Refuge, FL; Final Comprehensive Conservation Plan and Finding of No Significant Impact for the Environmental Assessment

AGENCY: Fish and Wildlife Service, Interior.

ACTION: Notice of availability.

SUMMARY: We, the Fish and Wildlife Service (Service), announce the availability of the final comprehensive conservation plan (CCP) and finding of no significant impact for the environmental assessment for St. Johns National Wildlife Refuge (NWR) in Brevard County, Florida. In the final CCP, we describe how we will manage this refuge for the next 15 years.

ADDRESSES: You may obtain a copy of the CCP by writing to: Ms. Layne Hamilton, c/o Merritt Island National Wildlife Refuge Complex, P.O. Box 2683, Titusville, FL 32781. Alternatively, you may download the document from our Internet Site: http://southeast.fws.gov/planning under “Final Documents.”

FOR FURTHER INFORMATION CONTACT: Ms. Layne Hamilton, at 321/861-0667 (telephone).

SUPPLEMENTARY INFORMATION:

Introduction

With this notice, we finalize the CCP process for St. Johns NWR. We started the process through a notice in the Federal Register on December 14, 2009 (74 FR 66147). For more about the process, see that notice.

St. Johns NWR is a unit of and administered through the Merritt Island National Wildlife Refuge Complex.

St. Johns NWR was established in August 1971, to provide protection for threatened and endangered species and to enhance native diversity. The refuge contains two units totaling approximately 6,422 acres. The southern or Bee Line Unit occurs about a mile west of Port St. John, Florida, while the northern or State Road 50 Unit occurs about 5 miles to the north, roughly 5 miles west of Titusville, Florida. St. Johns NWR is closed to public use, except for those uses permitted through the special use permit process. St. Johns NWR contains some of the last vestiges of inland salt pan habitat known in Florida—a habitat dominated by cordgrass, but disconnected from tidewaters. Saltwater upwellings, along with periodic fires and floods, maintain this unique habitat, which exists as part of a network of preserves within the Upper St. Johns River Basin, including natural areas managed by the State of Florida and Brevard County.

The refuge was home to the last remaining families of the dusky seaside sparrow (Ammodramus maritimus nigrescens), a species that despite Federal protection and the best efforts of a consortium of partners was declared extinct in 1990. Today, the refuge is home to four federally listed species, including the wood stork (Mycteria americana), the eastern indigo snake (Drymarchon couperi), the crested caracara (Caracara cheriway), and the American alligator (Alligator mississippiensis). As a result of the refuge's importance to resident and migratory birds, seven species of birds have been designated species of management concern, including the black rail (Laterallus jamaicensis) and the eastern meadowlark (Sturnella magna). The refuge is also home to a host of State-listed species and offers refugia and prey opportunities for wading birds, including the little blue heron (Egretta caerulea), snowy egret (Egretta thula), and tri-colored heron (Egretta tricolor).

We announce our decision and the availability of the final CCP and FONSI for St. Johns NWR in accordance with the National Environmental Policy Act (NEPA) (40 CFR 1506.6(b)) requirements. We completed a thorough analysis of impacts on the human environment, which we included in the draft comprehensive conservation plan and environmental assessment (Draft CCP/EA).

The CCP will guide us in managing and administering St. Johns NWR for the next 15 years. Alternative C is the foundation for the CCP.

The compatibility determinations for research, environmental education and interpretation, wildlife observation and photography, bicycling, commercial photography, and commercial tours and guiding are included in the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via a Federal Register notice on July 7, 2011 (76 FR 39890). We provided more than 60 copies of the Draft CCP/EA to those individuals or organizations that requested a copy. A total of ten individuals, organizations, and government agencies provided comments on the Draft CCP/EA by U.S. mail or email. Comments were received from the St. Johns River Water Management District, Brevard County Environmentally Endangered Lands Program, Florida Fish and Wildlife Conservation Commission, Defenders of Wildlife, Space Coast Audubon, Modern, Inc., and local citizens.

Selected Alternative

After considering the comments we received and based on our professional judgment, we selected Alternative C for implementation. This alternative will focus on enhancing all native wildlife and habitat diversity on the refuge. We will determine our role in regional and national species conservation plans. Concerning the suite of residing, wintering, and summering birds on the refuge, Alternative C will represent an expansion of management. Through prescribed burning and utilizing ecological indicators, we will promote an ecologically based fire return interval to maintain early successional ecological stages of all fire-maintained habitats. In addition, the hydrologic setting will be restored to as close to pre-drainage conditions as possible to benefit refuge wildlife. Under Alternative C, we will expand management of wood storks and State-listed wading birds. In conjunction with State-listed wading bird nesting surveys, we will opportunistically remove fill and dike features from peninsulas in the State Road 50 Unit borrow ponds, to provide additional artificial islands. On behalf of the northern crested caracara, Alternative C will maintain open habitat with a minimum of woody vegetation. We will also evaluate the use of mowing, grazing, and/or other forms of vegetation control to help maintain open prairie for crested caracara at the Bee Line Unit, while minimizing impacts to secretive marsh birds. Through discussions with the State, we will stay abreast of Cape Sable seaside sparrow reintroduction.

Under Alternative C, management of hydrology, including groundwater, surface water, and water quality, will be expanded. We will coordinate with the St. Johns River Water Management District (SJRWMD) to develop a better understanding of the hydrology of the refuge. To help fill in the information gaps, and by utilizing experts, we will develop a hydrologic study to understand the relationships of water quality, water quantity, and timing of flows within and across the refuge. We will increase control of invasive/feral animals and will reduce invasive plants to a maintenance level. We will coordinate with local cooperative invasive species management areas to develop an early detection and alert network to help control invasive animals. We will use permittees and partners for the feral hog control effort, but may also use public hunts if, after evaluation, hunting is determined to be an effective tool to control feral hog populations. Under Alternative C, management of all vegetation communities on the refuge will expand. We will focus habitat management on maintaining and supporting a wide array of native wildlife using the refuge. Overall, however, in Alternative C, the relative percentages and composition of major habitat types on the refuge will not change; the aim will be to increase the quality rather than quantity of the various habitat types. Management of mammals will expand. We will strive to maintain emergent marsh and open waters for a diversity of mammals, such as white-tailed deer and round-tailed muskrat. We will also conduct a mammal inventory during the 15-year life of the CCP.

With regard to climate change, we will partner with SJRWMD in adaptive management efforts to manage habitats, ecosystems, and wildlife affected by climate change. We will investigate opportunities to participate in regional climate change initiatives to better understand the role climate change may have on refuge resources, and will adapt management based on discovery of climate change-related impacts.

Under the preferred alternative, we will work with partners to consolidate and secure ownership in the checkerboard area of the Bee Line Unit to create functional management areas. We will consider fee-title acquisitions based on a willing-seller approach, land swaps, management agreements, and conservation easements to protect these sites. We will work with Brevard County to vacate or abandon rights-of-way, as well as add right-of-way access to accommodate public use. Additionally, the preferred alternative identifies a minor expansion proposal of less than 10 percent (625 acres) of the refuge's approved acquisition boundary, to connect lands and develop natural-area corridors to the State Road 50 Unit. We will increase our law enforcement staff and coordinate with governmental partners and landowners to increase the number of patrols to deter and prevent destructive illegal activities. With regard to cultural, historical, and archaeological resources, we will continue to implement Section 106 of the National Historic Preservation Act to provide protection for these resources. In addition, we will complete and begin to implement a Cultural Resources Management Plan within the 15-year period of the CCP.

One of the centerpieces of the preferred alternative includes expanding visitor services and public use. To expand opportunities for interpretation, we will work with partners to evaluate a range of access alternatives for the refuge. Working with Brevard County, we will seek to develop facilities such as a trailhead and kiosk from the county's Fay Lake Park to our Bee Line Unit, and will consider developing an interpretive trail and kiosk on the State Road 50 Unit. We will explore opportunities, based on potential and varied acquisition opportunities from willing sellers, to provide public access to the State Road 50 Unit from the county's Fox Lake Park Sanctuary through the Fox Lake tract. In conducting outreach, this alternative will expand with a wildlife and habitat diversity focus and will include messaging that targets ethical behavior. Alternative C will expand environmental education efforts. We will work with partners to develop curriculum-based environmental education programs related to wildlife and climate change. We will also work with local schools to conduct on-site environmental education. In addition, we will open the refuge to wildlife observation and photography, and will provide facilities to enhance the visitor experience (e.g., marked foot trails, kiosks at trailheads, and a safe parking area). We will establish foot traffic on existing dikes and roads and will evaluate potential connectivity to regional trail networks. The refuge and any future trails will remain subject to closure for administrative purposes. Commercial photography and tours/guides will be available on a case-by-case basis, permitted through the special use permit process. Access for uses determined to be appropriate and compatible will be by walking, hiking, and bicycling. Bicycling that does not support appropriate and compatible uses, such as mountain biking and off-trail biking, will not be considered an appropriate form of access. Staff will work with partners to evaluate the potential for a primitive weapons' hunt (e.g., bow and muzzle-loader) and for a youth hunt. Species to be considered for hunts will include white-tailed deer and feral hogs.

Administration will expand under the preferred alternative. When the preferred alternative is fully implemented, it will provide for new shared positions with Merritt Island NWR, including a law enforcement officer, maintenance worker, and a ranger. A full-time biological technician will be hired, for a total of 2.5 new positions. The volunteer program will expand as we will utilize volunteers for environmental education and interpretation activities and programs, trail maintenance, outreach, wildlife surveys, expanded exotic control, and cleanups. Facilities and equipment will be added and we will consider developing kiosks, trails, and associated parking to provide safe and secure access from existing county parks to refuge lands. We will also add one or two vehicles and more equipment for exotic plant control activities.

Authority

This notice is published under the authority of the National Wildlife Refuge System Improvement Act of 1997 (16 U.S.C. 668dd et seq.).

Dated: June 22, 2012.
Mark J. Musaus,
Acting Regional Director.

[FR Doc. 2012-24272 Filed 10-1-12; 8:45 am]

BILLING CODE 4310-55-P